DEPARTMENT OF JUSTICE

Antitrust Division

United States v. Microsoft Corporation; Notice of Availability of Public Comments

Notice is hereby given that the United States will publish the Tunney Act public comments that it received relating to the Revised Proposed Final Judgment in United States v. Microsoft Corporation, Civil Action No. 98-1232, pending in the United States District Court for the District of Columbia, by following the procedures described in this notice.

On February 15, 2002, the United States made electronic copies of 47 detailed comments, which were provided to the Court on February 14, 2002, available on the Department of Justice's website at www.usdoj.gov/atr/cases/ms-major.htm. The United States will make available electronic copies of all comments on the Department of Justice's website at www.usdoj.gov/atr/cases/ms-comments.htm, and the Department's website will also provide a means for interested persons to download a compressed version, i.e., a “Zip” file, of the full text of all comments. The comments should be available on the website beginning March 4, 2002. Also beginning March 4, 2002, interested persons may request a copy of the one or more CD-ROMs containing the full text of the comments, at no cost (one copy to each individual and five copies to each library or other institution that submits a request), by contacting the Department of Justice in Washington, DC at Antitrust Documents Group, 325 7th Street NW., Ste. 215 North, Washington, DC 20530, Telephone: (202) 514-2481, Fax: (202) 514-3763. The United States will file the comments on CD-ROM with the Clerk of the United States District Court for the District of Columbia. Furthermore, the United States will, as soon as possible, publish in the Federal Register a complete list of the names of all individuals or entities submitting comments, the number of pages of each comment, a unique tracking number assigned to each comment so that each comment may be located on the Department's website, an index to the comments organized by six categories based primarily on the level of detail of the comment, and the United States' response to the comments. Separately, the United States will submit to the Federal Register the full text of the public comments for publication.

Constance K. Robinson,
Director of Operations.

[FR Doc. 02-5147 Filed 3-4-02; 8:45 am]

BILLING CODE 4410-11-P